DEPARTMENT OF ENERGY

Federal Energy Regulatory Commission

Combined Notice of Filings #1

May 28, 2009.

Take notice that the Commission received the following exempt wholesale generator filings:

Docket Numbers: EG09-44-000.

Applicants: Lost Lakes Wind Farm LLC.

Description: Notice of Self Certification of Exempt Wholesale Generator, Status of Lost Lakes Wind Farm LLC.

Filed Date: 05/27/2009.

Accession Number: 20090527-5107.

Comment Date: 5 p.m. Eastern Time on Wednesday, June 17, 2009.

Docket Numbers: EG09-45-000.

Applicants: Blue Canyon Windpower V LLC.

Description: Notice of Self Certification of Exempt Wholesale Generator, Status of Blue Canyon Windpower V LLC.

Filed Date: 05/27/2009.

Accession Number: 20090527-5108.

Comment Date: 5 p.m. Eastern Time on Wednesday, June 17, 2009.

Docket Numbers: EG09-46-000.

Applicants: Lost Creek Wind, LLC.

Description: Notice of Self-Certification of Exempt Wholesale Generator of Lost Creek Wind, LLC.

Filed Date: 05/27/2009.

Accession Number: 20090527-5115.

Comment Date: 5 p.m. Eastern Time on Wednesday, June 17, 2009.

Take notice that the Commission received the following electric rate filings:

Docket Numbers: ER08-1109-001.

Applicants: Maine Public Service Company.

Description: Maine Public Service Company Submits for Filing a Settlement Agreement.

Filed Date: 05/20/2009.

Accession Number: 20090520-5125.

Comment Date: 5 p.m. Eastern Time on Wednesday, June 10, 2009.

Docket Numbers: ER09-874-001.

Applicants: Discount Power, Inc.

Description: Discount Power, Inc submits the Second Amended Petition for Acceptance of Initial Rate Schedule, Waivers and Blanket Authority.

Filed Date: 05/26/2009.

Accession Number: 20090527-0046.

Comment Date: 5 p.m. Eastern Time on Tuesday, June 16, 2009.

Docket Numbers: ER09-952-001.

Applicants: Dayton Power and Light Company.

Description: Duke Energy Corporation submits the Supplemental IA to incorporate revisions to the headers and footers of the IA as suggested by Commission Staff, etc.

Filed Date: 05/27/2009.

Accession Number: 20090528-0062.

Comment Date: 5 p.m. Eastern Time on Wednesday, June 17, 2009.

Docket Numbers: ER09-1097-001.

Applicants: Public Service Company of New Mexico.

Description: Public Service Company of New Mexico submits Service Agreement 334 to its FERC Electric Tariff, Second Revised Volume 6.

Filed Date: 05/12/2009.

Accession Number: 20090513-0161.

Comment Date: 5 p.m. Eastern Time on Tuesday, June 02, 2009.

Docket Numbers: ER09-1132-000.

Applicants: Palmco Power NJ, LLC.

Description: Palmco Power NJ, LLC submits the Amendment for the Petition for Acceptance of Initial Tariff, Waivers and Blanket Authority & requesting acceptance of FERC Electric Tariff Original Volume 1, etc. et al.

Filed Date: 05/27/2009.

Accession Number: 20090528-0063.

Comment Date: 5 p.m. Eastern Time on Wednesday, June 17, 2009.

Docket Numbers: ER09-1133-000.

Applicants: Palmco Power PA, LLC.

Description: Palmco Power PA, LLC submits the Amendment for the Petition for Acceptance of Initial Tariff, Waivers and Blanket Authority, etc.

Filed Date: 05/27/2009.

Accession Number: 20090528-0060.

Comment Date: 5 p.m. Eastern Time on Wednesday, June 17, 2009.

Docket Numbers: ER09-1194-000.

Applicants: Palmco Power NJ, LLC.

Description: Palmco Power NJ, LLC submits the Amendment for the Petition for Acceptance of Initial Tariff, Waivers and Blanket Authority & requesting acceptance of FERC Electric Tariff Original Volume 1, etc.

Filed Date: 05/27/2009.

Accession Number: 20090528-0063.

Comment Date: 5 p.m. Eastern Time on Wednesday, June 17, 2009.

Docket Numbers: ER09-1195-000.

Applicants: Palmco Power PA, LLC.

Description: Palmco Power PA, LLC submits the Amendment for the Petition for Acceptance of Initial Tariff, Waivers and Blanket Authority, etc.

Filed Date: 05/27/2009.

Accession Number: 20090528-0060.

Comment Date: 5 p.m. Eastern Time on Wednesday, June 17, 2009.

Docket Numbers: ER09-1196-000.

Applicants: Lost Creek Wind, LLC.

Description: Lost Creek Wind, LLC submits application for accepting initial tariff, waiving regulations, and granting blanket approvals.

Filed Date: 05/27/2009.

Accession Number: 20090528-0220.

Comment Date: 5 p.m. Eastern Time on Wednesday, June 17, 2009.

Docket Numbers: ER09-1197-000.

Applicants: American Electric Power Service Corporation.

Description: American Electric Power Service Corp submits the seventeenth revised Interconnection and Local Delivery Service Agreement.

Filed Date: 05/26/2009.

Accession Number: 20090527-0047.

Comment Date: 5 p.m. Eastern Time on Tuesday, June 16, 2009.

Docket Numbers: ER09-1198-000.

Applicants: American Electric Power Service Corporation.

Description: Notice of Annual Update of Formula Rate of American Electric Power Service Corporation.

Filed Date: 05/26/2009.

Accession Number: 20090526-5302.

Comment Date: 5 p.m. Eastern Time on Tuesday, June 16, 2009.

Docket Numbers: ER09-1201-000.

Applicants: Midwest Independent Transmission System Operator, Inc.

Description: Midwest Independent Transmission System Operator, Inc. submits an executed Amended and Restates Large Generator Interconnection Agreement among the Midwest ISO, et al. limited liability corporation, etc.

Filed Date: 05/27/2009.

Accession Number: 20090528-0059.

Comment Date: 5 p.m. Eastern Time on Wednesday, June 17, 2009.

Take notice that the Commission received the following open access transmission tariff filings:

Docket Numbers: OA09-29-000.

Applicants: Avista Corporation.

Description: Avista Corporation's Informational Filing of Operational Assessments and Distributions as Required by Order Nos. 890 and 890-A.

Filed Date: 05/26/2009.

Accession Number: 20090526-5163.

Comment Date: 5 p.m. Eastern Time on Tuesday, June 16, 2009.

Take notice that the Commission received the following electric reliability filings:

Docket Numbers: RD09-7-000.

Applicants: North American Electric Reliability Corporation.

Description: Petition of the North American Electric Reliability Corporation for Approval of Version 2 Critical Infrastructure Protection Standards.

Filed Date: 05/22/2009.

Accession Number: 20090522-5150.

Comment Date: 5 p.m. Eastern Time on Monday, June 29, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Nathaniel J. Davis, Sr.,
Deputy Secretary.

[FR Doc. E9-13330 Filed 6-5-09; 8:45 am]

BILLING CODE 6717-01-P